DEPARTMENT OF DEFENSE

Office of the Secretary

[Transmittal No. 0O-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives,Transmittal 0O-15 with attached Policy Justification.

Dated: November 20, 2015.
Aaron Siegel,
Alternate OSD Federal Register Liaison Officer, Department of Defense.

Transmittal No. 0O-15

Report of Enhancement or Upgrade of Sensitivity of Technology or Capability (Sec. 36(B)(5)(C), AECA)

(i) Purchaser: Government of the Kingdom of Morocco.

(ii) Sec. 36(b)(l), AECA Transmittal No.: 12-28.

Date: 18 June 2012.

Military Department: Army.

(iii) Description: On 18 Jun 2012, Congress was notified by Congressional certification transmittal number 12-28, of the enhancement and refurbishment of 200 M1A1 Abrams tanks, provided as part of a grant Excess Defense Article (EDA) transfer notified to Congress on 27 April 2011, to the M1A1 Situational Awareness (SA) configuration. The proposed sale also includes 150 AN/VRC-87E and 50 AN/VRC-89E Exportable Single Channel Ground and Airborne Radio Systems (SINCGARS), 200 M2 Chrysler Mount Machine Guns, 400 7.62MM M240 Machine Guns, 12,049,842 Ammunition Rounds (including 1400 C785 SABOT, 1800 CA31 HEAT, and 5400 AA38 SLAP-T), 200 M250 Smoke Grenade Launchers, support equipment, spare and repair parts, personnel training and training equipment, publications and technical data, communication support, U.S. Government and contractor technical assistance, and other related logistics support. The estimated Major Defense Equipment (MDE) was $104.4 million, with a total estimated cost of $1.015 billion.

This transmittal reports that 28 fewer of the EDA M1A1 tanks will be refurbished than were reported in the previous transmittal. It also reports the potential sale of 50 M1A1 tanks from Long Supply. These 50 tanks from Long Supply will be enhanced and refurbished to the M1Al SA configuration. The proposed sale also includes 50 AGT 1500 engines (variant of the SLE and TIGER), electronic communication support systems consisting of an additional 22 each Export Single Channel Ground and Airborne Radio System (SINCGARS), 22 each M2 Chrysler Mount Machine Guns, 44 each 7.62MM M240 Machine Guns, and Ammunition consisting of 820 M865 SABOT Rounds, 2,640 M831Al Rounds, 133,200 .50 caliber Rounds, 366,400 7.62MM Rounds and other various types of ammunition to support the M1A1 Tanks. This report also includes Support Equipment, Government-Furnished Equipment, Repair Parts, Communication Support Equipment, Tool and Test Equipment, Training, U.S. Government Technical Support and Logistical Support, Contractor Technical Support. These additions will result in an increase in MDE of $117.5 million, for a total estimated MDE value of $221.9 million, and the total overall value will remain $1.015 billion.

(iv) Significance: This notification is being provided for the additional 50 M1A1 Abrams tanks from Long Supply, with their associated equipment, that were not enumerated as Major Defense Equipment in the original notification. Their inclusion represents an increase in capability over what was previously notified. This equipment provides the Kingdom of Morocco Army the ability to modernize its tank fleet, enhancing its ability to meet current and future threats. These tanks will contribute to Morocco's goal of updating its military capability while further enhancing interoperability with the U.S. and other allies.

(v) Justification: This proposed sale will contribute to the foreign policy and national security of the United States by helping to improve the security of a major Non-NATO ally that continues to be an important force for political stability and economic progress in Africa. This package of M1A1 tank enhancements will contribute to the modernization of Morocco's tank fleet, enhancing its ability to meet current and future threats. These tanks will contribute to Morocco's goal of updating its military capability while further enhancing interoperability with the U.S. and other allies.

(vi) Date Report Delivered to Congress: 03 NOV 2015

[FR Doc. 2015-30052 Filed 11-24-15; 8:45 am]

BILLING CODE 5001-06-P